ENVIRONMENTAL PROTECTION AGENCY

[FRL-9456-9]

Proposed Administrative Settlement Agreement and Order on Consent; In Re: Ely Copper Mine Superfund Site, Located in Vershire, VT

AGENCY: Environmental Protection Agency.

ACTION: Notice of proposed settlement agreement; request for public comment.

SUMMARY: In accordance with Section 122(i) of the Comprehensive Environmental Response, Compensation, and Liability Act, as amended (“CERCLA”), 42 U.S.C. 9622(i), and Section 7003(d) of the Resource Conservation and Recovery Act (“RCRA”), 42 U.S.C. 9673(d), notice is hereby given of a proposed settlement for recovery of past and projected future response costs concerning the Ely Copper Mine Superfund Site in Vershire, Vermont with the following settling party: Ely Mine Forest, Inc. The proposed settlement requires the settling party to hold all of its remaining cash accounts for purposes of paying certain site-related expenses approved by EPA. In addition, the proposed settlement requires the settling party to: use best efforts to market and sell the site property, allow EPA to remove and use borrow material located on the site property, provide EPA and their contractors access to the site property, and prepare and record any documents necessary to implement institutional controls on the site property. The proposed settlement includes a covenant not to sue the settling party pursuant to Section 107(a) of CERCLA, 42 U.S.C. 9607(a) and Section 7003 of RCRA, 42 U.S.C. 6973.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the US EPA Region 1 OSRR Records and Information Center, 5 Post Office Square, Suite 100, Boston, MA 02109. During the public comment period, commenters may request an opportunity for a public meeting in the affected area in accordance with Section 7003(d) of RCRA, 42 U.S.C. 6973(d).

DATES: Comments must be submitted on or before September 29, 2011.

ADDRESSES: Comments should be addressed to the Regional Hearing Clerk, U.S. Environmental Protection Agency, Region I, 5 Post Office Square, Suite 100, Mailcode ORA18-1, Boston, MA 02109 and should refer to: In re: Ely Mine Forest, Inc., U.S. EPA Region 1 Docket No. CERCLA-01-2011-0012.

FOR FURTHER INFORMATION CONTACT: The proposed settlement and additional background information relating to the settlement are available for public inspection at the Vershire Town Hall, 6894 VT Rt. 113, Vershire, VT or at the US EPA Region 1 OSRR Records and Information Center, 5 Post Office Square, Suite 100, Boston, MA 02109. In addition, a copy of the proposed settlement agreement can be obtained from Ann Gardner, U.S. Environmental Protection Agency, Region I, 5 Post Office Square, Suite 100, Mailcode OES04-4, Boston, MA 02109-3912, or by e-mail at gardner.ann@epa.gov. Additional information on the Ely Copper Mine Superfund Site can be found through the US EPA Region I Web site at http://www.epa.gov/region1/cleanup/index.html.

Dated: May 17, 2011.
Stanley D. Chin,
Acting Director, Office of Site Remediation and Restoration, U.S. EPA, Region I.

[FR Doc. 2011-21991 Filed 8-29-11; 8:45 am]

BILLING CODE 6560-50-P